DEPARTMENT OF TRANSPORTATION

Federal Railroad Administration

[Docket No. FRA-2013-0002-N-24]

Proposed Agency Information Collection Activities; Comment Request

AGENCY: Federal Railroad Administration (FRA), United States Department of Transportation (USDOT).

ACTION: Notice and request for comments.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than February 21, 2014.

ADDRESSES: Submit written comments on any or all of the following proposed activities by mail to either: Ms. Janet Wylie or Ms. Kimberly Toone, Office of Information Technology, RAD-20, Federal Railroad Administration, 1200 New Jersey Ave. SE., Mail Stop 35, Washington, DC 20590. Commenters requesting FRA acknowledge receipt of their respective comments must include a self-addressed stamped postcard stating, “Comments on OMB control number 2130-0580.” Alternatively, comments may be transmitted via facsimile to (202) 493-6170, or via email to Ms. Wylie at janet.wylie@dot.gov, or to Ms. Toone at Kim.Toone@dot.gov. Please refer to the assigned OMB control number in any correspondence submitted. FRA will summarize comments received in response to this notice in a subsequent notice and include them in its information collection submission to OMB for approval.

FOR FURTHER INFORMATION CONTACT: Ms. Janet Wylie, Office of Information and Technology, RAD-20, Federal Railroad Administration, 1200 New Jersey Ave. SE., Mail Stop 35, Washington, DC 20590 (telephone: (202) 493-6353) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Notice of Funding Availability and Solicitations of Applications for Grants under the Railroad Rehabilitation and Repair Grant Program.

OMB Control Number: 2130-0580.

Abstract: The Consolidated Security, Disaster Assistance, and Continuing Appropriations Act, 2009 (Pub. L. 110-329; September 30, 2008), established the Railroad Rehabilitation and Repair Program, making Federal funds available directly to States. This Program allowed grants to fund up to 80 percent of the cost of rehabilitation and repairs to Class II and Class III railroad infrastructure damaged by hurricanes, floods, and other natural disasters in areas that are located in counties that have been identified in a Disaster Declaration for Public Assistance by the President under title IV of the Robert T. Stafford Disaster Relief and Emergency Assistance Act of 1974. Funding was made available on a reimbursement basis for costs incurred after a major disaster declaration that was made between January 1, 2008 and the date of the publication of the notice of funding availability in the counties covered by such a declaration. Rehabilitation and repairs include rights-of-way, bridges, signals, and other infrastructure which is part of the general railroad system of transportation and primarily used by railroads to move freight traffic.

FRA recently revised this Information Collection Request (ICR) to allow for the submission of additional grants under this program based on the Notice of Funding Availability published by FRA on 10/13/2013 and the emergency clearance request approved by OMB on 11/05/2013. Any grants submitted as part of this previous ICR were due by December 9, 2013. Therefore, this revision no longer includes any burden hours for the application process, as no new applications are being accepted at this time.

Due to the nature of these disaster assistance funds, current economic conditions, and the various States need for immediate assistance to vital freight transportation pathways and the important role these sectors of transportation play in the overall national economy, FRA is requesting OMB to extend this ICR in order to manage the current grants obligated under this program until the remaining grants have properly closed-out and are completed.

Form Number(s): SF-425, SF-271, SF-270.

Affected Public: Railroads, businesses, States/Local governments.

Reporting Burden: Close-out procedures.

Respondent Universe: 49.

Total Annual Responses: 6.

Average Time per Response: 84.

Total Annual Burden Hours: 504.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on December 3, 2013.
Rebecca Pennington,
Chief Financial Officer.

[FR Doc. 2013-30364 Filed 12-20-13; 8:45 am]

BILLING CODE 4910-06-P